DEPARTMENT OF COMMERCE

International Trade Administration

[A-570-970]

Multilayered Wood Flooring From the People's Republic of China: Amended Final Determination of Sales at Less Than Fair Value and Antidumping Duty Order

AGENCY: Import Administration, International Trade Administration, Department of Commerce.

DATES: Effective Date: December 8, 2011

SUMMARY: Based on affirmative final determinations by the Department of Commerce (the “Department”) and the International Trade Commission (“ITC”), the Department is issuing an antidumping duty order on multilayered wood flooring (“wood flooring”) from the People's Republic of China (“PRC”). In addition, the Department is amending its final determination to correct certain ministerial errors.

FOR FURTHER INFORMATION CONTACT: Erin Kearney, Brandon Farlander, or Charles Riggle, AD/CVD Operations, Office 4, Import Administration, International Trade Administration, U.S. Department of Commerce, 14th Street and Constitution Avenue NW, Washington, DC 20230; telephone: (202) 482-0167, (202) 482-0182, or (202) 482-0650, respectively.

SUPPLEMENTARY INFORMATION:

Background

In accordance with sections 735(d) and 777(i)(1) of the Tariff Act of 1930, as amended (“Act”), on October 18, 2011, the Department published the final determination of sales at less than fair value in the antidumping duty investigation of wood flooring from the PRC. See Multilayered Wood Flooring From the People's Republic of China: Final Determination of Sales at Less Than Fair Value, 76 FR 64318 (October 18, 2011) (“Final Determination”). On December 1, 2011, the ITC notified the Department of its affirmative determination of material injury to a U.S. industry. See Multilayered Wood Flooring from China, USITC Investigation Nos. 701-TA-476 and 731-TA-1179 (Final), USITC Publication 4278 (November 2011).

Correction of Scope of the Order

In the Final Determination, the Department stated that the scope used in the preliminary determination ¹ should be amended so as to not refer to certain Harmonized Tariff Schedule of the United States (“HTSUS”) numbers under which subject merchandise may be incorrectly classified. See Final Determination and accompanying Issues and Decision Memorandum at Comment 12.C. However, the Department inadvertently included in its Final Determination the scope language used in the Preliminary Determination. The correct scope is provided, below.

¹ Multilayered Wood Flooring From the People's Republic of China: Preliminary Determination of Sales at Less Than Fair Value, 76 FR 30656 (May 26, 2011) (“Preliminary Determination”).

Scope of the Order

Multilayered wood flooring is composed of an assembly of two or more layers or plies of wood veneer(s) ² in combination with a core. The several layers, along with the core, are glued or otherwise bonded together to form a final assembled product. Multilayered wood flooring is often referred to by other terms, e.g., “engineered wood flooring” or “plywood flooring.” Regardless of the particular terminology, all products that meet the description set forth herein are intended for inclusion within the definition of subject merchandise.

² A “veneer” is a thin slice of wood, rotary cut, sliced or sawed from a log, bolt or flitch. Veneer is referred to as a ply when assembled.

All multilayered wood flooring is included within the definition of subject merchandise, without regard to: dimension (overall thickness, thickness of face ply, thickness of back ply, thickness of core, and thickness of inner plies; width; and length); wood species used for the face, back and inner veneers; core composition; and face grade. Multilayered wood flooring included within the definition of subject merchandise may be unfinished (i.e., without a finally finished surface to protect the face veneer from wear and tear) or “prefinished” (i.e., a coating applied to the face veneer, including, but not exclusively, oil or oil-modified or water-based polyurethanes, ultra-violet light cured polyurethanes, wax, epoxy-ester finishes, moisture-cured urethanes and acid-curing formaldehyde finishes). The veneers may be also soaked in an acrylic-impregnated finish. All multilayered wood flooring is included within the definition of subject merchandise regardless of whether the face (or back) of the product is smooth, wire brushed, distressed by any method or multiple methods, or hand-scraped. In addition, all multilayered wood flooring is included within the definition of subject merchandise regardless of whether or not it is manufactured with any interlocking or connecting mechanism (for example, tongue-and-groove construction or locking joints). All multilayered wood flooring is included within the definition of the subject merchandise regardless of whether the product meets a particular industry or similar standard.

The core of multilayered wood flooring may be composed of a range of materials, including but not limited to hardwood or softwood veneer, particleboard, medium-density fiberboard, high-density fiberboard (“HDF”), stone and/or plastic composite, or strips of lumber placed edge-to-edge.

Multilayered wood flooring products generally, but not exclusively, may be in the form of a strip, plank, or other geometrical patterns (e.g., circular, hexagonal). All multilayered wood flooring products are included within this definition regardless of the actual or nominal dimensions or form of the product.

Specifically excluded from the scope are cork flooring and bamboo flooring, regardless of whether any of the sub-surface layers of either flooring are made from wood. Also excluded is laminate flooring. Laminate flooring consists of a top wear layer sheet not made of wood, a decorative paper layer, a core-layer of HDF, and a stabilizing bottom layer.

Imports of the subject merchandise are provided for under the following subheadings of the Harmonized Tariff Schedule of the United States (“HTSUS”): 4412.31.0520; 4412.31.0540; 4412.31.0560; 4412.31.2510; 4412.31.2520; 4412.31.4040; 4412.31.4050; 4412.31.4060; 4412.31.4070; 4412.31.5125; 4412.31.5135; 4412.31.5155; 4412.31.5165; 4412.31.3175; 4412.31.6000; 4412.31.9100; 4412.32.0520; 4412.32.0540; 4412.32.0560; 4412.32.2510; 4412.32.2520; 4412.32.3125; 4412.32.3135; 4412.32.3155; 4412.32.3165; 4412.32.3175; 4412.32.3185; 4412.32.5600; 4412.39.1000; 4412.39.3000; 4412.39.4011; 4412.39.4012; 4412.39.4019; 4412.39.4031; 4412.39.4032; 4412.39.4039; 4412.39.4051; 4412.39.4052; 4412.39.4059; 4412.39.4061; 4412.39.4062; 4412.39.4069; 4412.39.5010; 4412.39.5030; 4412.39.5050; 4412.94.1030; 4412.94.1050; 4412.94.3105; 4412.94.3111; 4412.94.3121; 4412.94.3131; 4412.94.3141; 4412.94.3160; 4412.94.3171; 4412.94.4100; 4412.94.5100; 4412.94.6000; 4412.94.7000; 4412.94.8000; 4412.94.9000; 4412.94.9500; 4412.99.0600; 4412.99.1020; 4412.99.1030; 4412.99.1040; 4412.99.3110; 4412.99.3120; 4412.99.3130; 4412.99.3140; 4412.99.3150; 4412.99.3160; 4412.99.3170; 4412.99.4100; 4412.99.5100; 4412.99.5710; 4412.99.6000; 4412.99.7000; 4412.99.8000; 4412.99.9000; 4412.99.9500; 4418.71.2000; 4418.71.9000; 4418.72.2000; and 4418.72.9500.

While HTSUS subheadings are provided for convenience and customs purposes, the written description of the subject merchandise is dispositive.

Amendment to the Final Determination

On October 18, 2011, the Department published its affirmative final determination in this proceeding. See Final Determination. On October 19, 2011, the petitioner in the investigation, the Coalition for American Hardwood Parity (“Petitioner”), and Riverside Plywood Corporation, Samling Elegant Living Trading (Labuan) Limited, Samling Global USA, Inc., Samling Riverside Co., Ltd. and Suzhou Times Flooring (collectively, the “Samling Group”), Zhejiang Layo Wood Industry Co., Ltd. (“Layo Wood”), and Xinyuan Wooden Industry Co., Ltd., respondents in the investigation, submitted timely ministerial error allegations and requested, pursuant to 19 CFR 351.224, that the Department correct the alleged ministerial errors in the dumping margin calculations. On October 25, 2011, Petitioner filed rebuttal comments. No other interested party submitted ministerial error allegations or rebuttal comments.

After analyzing all interested party comments and rebuttals, we have determined, in accordance with section 735(e) of the Act and 19 CFR 351.224(e), that we made the following ministerial errors in our calculations for the Final Determination with respect to Layo Wood:

• We unintentionally applied an incorrect surrogate value for Layo Wood's corrugated paper inputs in the dumping margin calculation program.

• We incorrectly applied a cubic-meter-to-kilogram conversion to the surrogate value for Layo Wood's HDF inputs, for purposes of calculating Layo Wood's scrap byproduct value. The surrogate value for HDF was already reported on a dollars per kilogram basis, so no conversion was necessary.

For a detailed discussion of all alleged ministerial errors, as well as the Department's analysis, see Memorandum to Paul Piquado, Assistant Secretary for Import Administration, from Christian Marsh, Deputy Assistant Secretary for Antidumping and Countervailing Duty Operations, concerning, “Final Determination of Antidumping Duty Investigation on Multilayered Wood Flooring from the People's Republic of China: Allegations of Ministerial Errors,” dated November 7, 2011 (“Ministerial Error Memorandum”).

In the Final Determination, we determined that a number of companies, in addition to the mandatory respondents, qualified for a separate rate. See Final Determination. Since the cash deposit rate for the separate rate respondents is based on the average of the margins for the mandatory respondents, and the margin for Layo Wood changed as a result of the aforementioned ministerial errors, we have revised the calculation of the dumping margin for the separate rate respondents in the amended final determination. See Ministerial Error Memorandum. The amended weighted average dumping margins are provided, below.

Antidumping Duty Order

As noted above, on December 1, 2011, in accordance with section 735(d) of the Act, the ITC notified the Department of its final determination in this investigation, in which it found material injury with respect to wood flooring from the PRC. Because the ITC determined that imports of wood flooring from the PRC are materially injuring a U.S. industry, all unliquidated entries of such merchandise from the PRC, entered or withdrawn from warehouse, are subject to the assessment of antidumping duties.

Therefore, in accordance with section 736(a)(1) of the Act, the Department will direct U.S. Customs and Border Protection (“CBP”) to assess, upon further instruction by the Department, antidumping duties equal to the amount by which the normal value of the merchandise exceeds the export price (or constructed export price) of the merchandise, for all relevant entries of wood flooring from the PRC. These antidumping duties will be assessed on unliquidated entries from the PRC entered, or withdrawn from warehouse, for consumption on or after May 26, 2011, the date on which the Department published its preliminary determination (see Preliminary Determination), but will not include entries occurring after the expiration of the provisional measures period and before publication of the ITC's final injury determination as further described below.

Continuation of Suspension of Liquidation

In accordance with section 735(c)(1)(B) of the Act, we will instruct CBP to continue to suspend liquidation on all entries of subject merchandise from the PRC. We will also instruct CBP to require cash deposits equal to the estimated amount by which the normal value exceeds the U.S. price as indicated in the chart below. These instructions suspending liquidation will remain in effect until further notice.

Accordingly, effective on the date of publication of the ITC's final affirmative injury determination, CBP will require, at the same time as importers would normally deposit estimated duties on this subject merchandise, a cash deposit equal to the estimated weighted-average antidumping duty margins as discussed above. See section 735(c)(3) of the Act. The “PRC-wide” rate applies to all exporters of subject merchandise not specifically listed.

Provisional Measures

Section 733(d) of the Act states that instructions issued pursuant to an affirmative preliminary determination may not remain in effect for more than four months except where exporters representing a significant proportion of exports of the subject merchandise request the Department to extend that four-month period to no more than six months. At the request of exporters that account for a significant proportion of exports of wood flooring from the PRC, we extended the four-month period to no more than six months. See Letter from Zhejiang Yuhua Timber Co., Ltd. (April 27, 2011); see also Letter from Layo Wood (April 29, 2011). In the underlying investigation, the Department published the Preliminary Determination on May 26, 2011. See Preliminary Determination. Therefore, the six-month period beginning on the date of the publication of the Preliminary Determination ended on November 22, 2011. Furthermore, section 737(b) of the Act states that definitive duties are to begin on the date of publication of the ITC's final injury determination.

Therefore, in accordance with section 733(d) of the Act and our practice, we will instruct CBP to terminate the suspension of liquidation and to liquidate, without regard to antidumping duties, unliquidated entries of wood flooring from the PRC entered, or withdrawn from warehouse, for consumption after November 22, 2011, the date provisional measures expired, and through the day preceding the date of publication of the ITC's final injury determination in the Federal Register. Suspension of liquidation will resume on and after the date of publication of the ITC's final injury determination in the Federal Register.

The weighted-average dumping margins are as follows:

Exporter | Producer | Weighted average margin
Zhejiang Layo Wood Industry Co., Ltd | Zhejiang Layo Wood Industry Co., Ltd | 3.97
The Samling Group ** | The Samling Group ** | 2.63
Zhejiang Yuhua Timber Co., Ltd | Zhejiang Yuhua Timber Co., Ltd | * 0.00
Jiaxing Brilliant Import & Export Co., Ltd | Zhejiang Layo Wood Industry Co., Ltd | 3.30
MuDanJiang Bosen Wood Industry Co., Ltd | MuDanJiang Bosen Wood Industry Co., Ltd | 3.30
MuDanJiang Bosen Wood Industry Co., Ltd | Dun Hua Sen Tai Wood Co., Ltd | 3.30
Huzhou Chenghang Wood Co., Ltd | Huzhou Chenghang Wood Co., Ltd | 3.30
Hangzhou Hanje Tec Co., Ltd | Zhejiang Jiechen Wood Industry Co., Ltd | 3.30
Nakahiro Jyou Sei Furniture (Dalian) Co., Ltd | Nakahiro Jyou Sei Furniture (Dalian) Co., Ltd | 3.30
Shenyang Haobainian Wooden Co., Ltd | Shenyang Sende Wood Co., Ltd | 3.30
Shenyang Haobainian Wooden Co., Ltd | Shenyang Haobainian Wooden Co., Ltd | 3.30
Shenyang Haobainian Wooden Co., Ltd | Shanghai Demeijia Wooden Co., Ltd | 3.30
Dalian Dajen Wood Co., Ltd | Dalian Dajen Wood Co., Ltd | 3.30
HaiLin LinJing Wooden Products, Ltd | HaiLin LinJing Wooden Products, Ltd | 3.30
Dun Hua Sen Tai Wood Co., Ltd | Dun Hua Sen Tai Wood Co., Ltd | 3.30
Dunhua Jisheng Wood Industry Co., Ltd | Dunhua Jisheng Wood Industry Co., Ltd | 3.30
Hunchun Forest Wolf Industry Co., Ltd | Hunchun Forest Wolf Industry Co., Ltd | 3.30
Guangzhou Panyu Southern Star Co., Ltd | Guangzhou Jiasheng Timber Industry Co., Ltd | 3.30
Nanjing Minglin Wooden Industry Co., Ltd | Nanjing Minglin Wooden Industry Co., Ltd | 3.30
Zhejiang Fudeli Timber Industry Co., Ltd | Zhejiang Fudeli Timber Industry Co., Ltd | 3.30
Suzhou Dongda Wood Co., Ltd | Suzhou Dongda Wood Co., Ltd | 3.30
Guangzhou Pan Yu Kang Da Board Co., Ltd | Guangzhou Pan Yu Kang Da Board Co., Ltd | 3.30
Kornbest Enterprises Ltd | Guangzhou Pan Yu Kang Da Board Co., Ltd | 3.30
Metropolitan Hardwood Floors, Inc | Dalian Huilong Wooden Products Co., Ltd | 3.30
Metropolitan Hardwood Floors, Inc | Mudanjiang Bosen Wood Co., Ltd | 3.30
Metropolitan Hardwood Floors, Inc | Nakahiro Jyou Sei Furniture (Dalian) Co., Ltd | 3.30
Metropolitan Hardwood Floors, Inc | Hunchun Forest Wolf Wooden Industry Co., Ltd | 3.30
Metropolitan Hardwood Floors, Inc | Kemian Wood Industry (Kunshan) Co., Ltd | 3.30
Metropolitan Hardwood Floors, Inc | Shenyang Haobainian Wooden Co., Ltd | 3.30
Zhejiang Longsen Lumbering Co., Ltd | Zhejiang Longsen Lumbering Co., Ltd | 3.30
Xinyuan Wooden Industry Co., Ltd | Xinyuan Wooden Industry Co., Ltd | 3.30
Dasso Industrial Group Co., Ltd | Dasso Industrial Group Co., Ltd | 3.30
Hong Kong Easoon Wood Technology Co., Ltd | Dasso Industrial Group Co., Ltd | 3.30
Armstrong Wood Products (Kunshan) Co., Ltd | Armstrong Wood Products (Kunshan) Co., Ltd | 3.30
Baishan Huafeng Wooden Product Co., Ltd | Baishan Huafeng Wooden Product Co., Ltd | 3.30
Changbai Mountain Development and Protection Zone Hongtu Wood Industry Co., Ltd | Changbai Mountain Development and Protection Zone Hongtu Wood Industry Co., Ltd | 3.30
Changzhou Hawd Flooring Co., Ltd | Changzhou Hawd Flooring Co., Ltd | 3.30
Dalian Jiuyuan Wood Industry Co., Ltd | Dalian Jiuyuan Wood Industry Co., Ltd | 3.30
Dalian Penghong Floor Products Co., Ltd | Dalian Penghong Floor Products Co., Ltd | 3.30
Dongtai Fuan Universal Dynamics LLC | Dongtai Fuan Universal Dynamics LLC | 3.30
Dunhua City Dexin Wood Industry Co., Ltd | Dunhua City Dexin Wood Industry Co., Ltd | 3.30
Dunhua City Hongyuan Wood Industry Co., Ltd | Dunhua City Hongyuan Wood Industry Co., Ltd | 3.30
Dunhua City Jisen Wood Industry Co., Ltd | Dunhua City Jisen Wood Industry Co., Ltd | 3.30
Dunhua City Wanrong Wood Industry Co., Ltd | Dunhua City Wanrong Wood Industry Co., Ltd | 3.30
Fusong Jinlong Wooden Group Co., Ltd | Fusong Jinlong Wooden Group Co., Ltd | 3.30
Fusong Qianqiu Wooden Product Co., Ltd | Fusong Qianqiu Wooden Product Co., Ltd | 3.30
GTP International | Jiangsu Senmao Bamboo and Wood Industry Co., Ltd | 3.30
GTP International | Jiafeng Wood (Suzhou) Co., Ltd | 3.30
GTP International | Suzhou Dongda Wood Co., Ltd | 3.30
GTP International | Kemian Wood Industry (Kunshan) Co., Ltd | 3.30
Guangdong Yihua Timber Industry Co., Ltd | Guangdong Yihua Timber Industry Co., Ltd | 3.30
HaiLin LinJing Wooden Products, Ltd | HaiLin LinJing Wooden Products, Ltd | 3.30
Huzhou Fulinmen Imp & Exp. Co., Ltd | Huzhou Fulinmen Wood Floor Co., Ltd | 3.30
Huzhou Fuma Wood Bus. Co., Ltd | Huzhou Fuma Wood Bus. Co., Ltd | 3.30
Jiafeng Wood (Suzhou) Co., Ltd | Jiafeng Wood (Suzhou) Co., Ltd | 3.30
Jiashan Hui Jia Le Decoration Material Co., Ltd | Jiashan Hui Jia Le Decoration Material Co., Ltd | 3.30
Jilin Forest Industry Jinqiao Flooring Group Co., Ltd | Jilin Forest Industry Jinqiao Flooring Group Co., Ltd | 3.30
Karly Wood Product Limited | Karly Wood Product Limited | 3.30
Kunshan Yingyi-Nature Wood Industry Co., Ltd | Kunshan Yingyi-Nature Wood Industry Co., Ltd | 3.30
Puli Trading Ltd | Baiying Furniture Manufacturer Co., Ltd | 3.30
Shanghai Eswell Timber Co. Ltd | Shanghai Eswell Timber Co. Ltd | 3.30
Shanghai Lairunde Wood Co., Ltd | Shanghai Lairunde Wood Co., Ltd | 3.30
Shanghai New Sihe Wood Co., Ltd | Shanghai New Sihe Wood Co., Ltd | 3.30
Shanghai Shenlin Corporation | Shanghai Shenlin Corporation | 3.30
Shenzhenshi Huanwei Woods Co., Ltd | Shenzhenshi Huanwei Woods Co., Ltd | 3.30
Tak Wah Building Material (Suzhou) Co. Ltd | Vicwood Industry (Suzhou) Co., Ltd | 3.30
Tech Wood International Ltd | Vicwood Industry (Suzhou) Co., Ltd | 3.30
Xiamen Yung De Ornament Co., Ltd | Xiamen Yung De Ornament Co., Ltd | 3.30
Xuzhou Shenghe Wood Co., Ltd | Xuzhou Shenghe Wood Co., Ltd | 3.30
Yixing Lion-King Timber Industry Co., Ltd | Yixing Lion-King Timber Industry Co., Ltd | 3.30
Jiangsu Simba Flooring Industry Co., Ltd | Yixing Lion-King Timber Industry Co., Ltd | 3.30
Zhejiang Biyork Wood Co., Ltd | Zhejiang Biyork Wood Co., Ltd | 3.30
Zhejiang Dadongwu GreenHome Wood Co., Ltd | Zhejiang Dadongwu GreenHome Wood Co., Ltd | 3.30
Zhejiang Desheng Wood Industry Co., Ltd | Zhejiang Desheng Wood Industry Co., Ltd | 3.30
Zhejiang Shiyou Timber Co., Ltd | Zhejiang Shiyou Timber Co., Ltd | 3.30
Zhejiang Tianzhen Bamboo & Wood Development Co., Ltd | Zhejiang Tianzhen Bamboo & Wood Development Co., Ltd | 3.30
Chinafloors Timber (China) Co. Ltd | Chinafloors Timber (China) Co. Ltd | 3.30
Shanghai Lizhong Wood Products Co., Ltd., also known as The Lizhong Wood Industry Limited Company of Shanghai | Shanghai Lizhong Wood Products Co., Ltd., also known as The Lizhong Wood Industry Limited Company of Shanghai | 3.30
Fine Furniture (Shanghai) Limited | Fine Furniture (Shanghai) Limited | 3.30
Huzhou Sunergy World Trade Co., Ltd | Zhejiang Haoyun Wood Co., Ltd | 3.30
Huzhou Sunergy World Trade Co., Ltd | Nanjing Minglin Wooden Industry Co., Ltd | 3.30
Huzhou Sunergy World Trade Co., Ltd | Zhejiang AnJi XinFeng Bamboo & Wood Co., Ltd | 3.30
Huzhou Jesonwood Co., Ltd | Zhejiang Jeson Wood Co., Ltd | 3.30
Huzhou Jesonwood Co., Ltd | Huzhou Jesonwood Co., Ltd | 3.30
A&W (Shanghai) Woods Co., Ltd | A&W (Shanghai) Woods Co., Ltd | 3.30
A&W (Shanghai) Woods Co., Ltd | Suzhou Anxin Weiguang Timber Co., Ltd | 3.30
Fu Lik Timber (HK) Company Limited | Guangdong Fu Lin Timber Technology Limited | 3.30
Yekalon Industry, Inc./Sennorwell International Group (Hong Kong) Limited | Jilin Xinyuan Wooden Industry Co., Ltd | 3.30
Kemian Wood Industry (Kunshan) Co., Ltd | Kemian Wood Industry (Kunshan) Co., Ltd | 3.30
Dalian Kemian Wood Industry Co., Ltd | Dalian Kemian Wood Industry Co., Ltd | 3.30
Dalian Huilong Wooden Products Co., Ltd | Dalian Huilong Wooden Products Co., Ltd | 3.30
Jiangsu Senmao Bamboo and Wood Industry Co., Ltd | Jiangsu Senmao Bamboo and Wood Industry Co., Ltd | 3.30
PRC-wide Entity |  | 58.84
* de minimis.
** The Samling Group consists of the following companies: Baroque Timber Industries (Zhongshan) Co., Ltd., Riverside Plywood Corporation, Samling Elegant Living Trading (Labuan) Limited, Samling Riverside Co., Ltd., and Suzhou Times Flooring Co., Ltd.

This notice constitutes the antidumping duty order with respect to wood flooring from the PRC pursuant to section 736(a) of the Act. Interested parties may contact the Department's Central Records Unit, Room 7043 of the main Commerce building, for copies of an updated list of antidumping duty orders currently in effect.

This order and amended final determination are published in accordance with sections 736(a) and 735(e) of the Act and 19 CFR 351.211 and 351.224(e).

Dated: December 2, 2011.
Ronald K. Lorentzen,
Acting Assistant Secretary for Import Administration.

[FR Doc. 2011-31571 Filed 12-7-11; 8:45 am]

BILLING CODE 3510-DS-P